DEPARTMENT OF STATE

[Public Notice 10128]

U.S. Department of State Advisory Committee on Private International Law: Notice of Annual Meeting

The Department of State's Advisory Committee on Private International Law (ACPIL) will hold its annual meeting on Tuesday, October 31, 2017 in Washington, DC. The meeting will be held at the Georgetown University Law Center, Gerwirz Student Hall, 600 New Jersey Ave. NW., Washington, DC. The program is scheduled to run from 8:30 a.m. to 4:00 p.m.

The discussion will focus on topics to include contractual networking, investor-state dispute settlement, and warehouse receipts. It is anticipated that discussions will explore the possibility of future work in the private international law field with a solicitation for suggestions in that regard.

Persons planning to attend the meeting should contact pil@state.gov as soon as possible. The meeting is open to the public up to the capacity of the conference facility, and seating will be reserved based upon when persons contact pil@state.gov. Those planning to attend should provide their name, affiliation and contact information to pil@state.gov. A member of the public needing reasonable accommodation should notify pil@state.gov not later than October 20, 2017. Requests made after that date will be considered, but might not be able to be fulfilled. A more detailed agenda will be available as the meeting approaches. Persons who wish to have their views considered are encouraged, but not required, to submit written comments in advance. Those who are unable to attend are also encouraged to submit written views. Comments should be sent electronically to pil@state.gov.

Michael S. Coffee,
Attorney-Adviser, Office of Private International Law, Office of the Legal Adviser, Department of State.

[FR Doc. 2017-19624 Filed 9-14-17; 8:45 am]

BILLING CODE 4710-08-P